DEPARTMENT OF THE INTERIOR

National Park Service

Announcement of the National Park Subsistence Resource Commission (SRC) meetings for Cape Krusenstern National Monument and Kobuk Valley National Park

AGENCY: National Park Service, Interior.

SUMMARY: The National Park Service (NPS) announces the SRC meeting schedule for the following NPS areas within the Alaska Region: Cape Krusenstern National Monument, and Kobuk Valley National Park and Denali National Park. The purpose of each meeting is to develop and continue work on subsistence hunting program recommendations and other related subsistence management issues. Each meeting is open to the public and will have time allocated for public testimony. The public is welcomed to present written or oral comments to the SRC.

The NPS SRC program is authorized under Title VIII, Section 808, of the Alaska National Interest Lands Conservation Act, Public Law 96-487, to operate in accordance with the provisions of the Federal Advisory Committee Act. Draft meeting minutes will be available for public inspection approximately six weeks after each meeting: Superintendent Western Arctic National Parklands, P.O. Box 1029, Kotzebue, AK 99752.

DATES: The meeting times and locations are:

1. Cape Krusenstern National Monument SRC, Tuesday, October 4, 2005, Wednesday, October 5, 2005, and Thursday, October 6, 2005, from 9 a.m. to approximately 5 p.m. at the U.S. Fish and Wildlife Service Office in Kotzebue, Alaska.

2. Kobuk Valley National Park SRC, Tuesday, October 4, 2005, Wednesday, October 5, 2005, and Thursday, October 6, 2005, from 9 a.m. to approximately 5 p.m. at the U.S. Fish and Wildlife Service Office in Kotzebue, Alaska.

FOR FURTHER INFORMATION CONTACT: Ken Adkisson, Subsistence Program Manager, Western Arctic National Parklands at (907) 443-6104 or Willie Goodwin, Subsistence Manager at (907) 442-3890.

SUPPLEMENTARY INFORMATION: SRC meeting locations and dates may need to be changed based on weather or local circumstances. Notice of each meeting will be published in local newspapers and announced on local radio stations prior to the meeting dates. The agendas for each meeting include the following:

1. Call to order (SRC Chair)

2. SRC Roll Call and Confirmation of Quorum

3. SRC Chair and Superintendent's Welcome and Introductions

4. Review and Approve Agenda

5. Review and adopt minutes from last meeting

6. Status of SRC Membership—Election of Chair and Vice Chair

7. Commission Member Reports

8. Superintendent and NPS Staff Reports

9. Federal Subsistence Board Update

10. New Business

11. Agency and Public Comments

12. SRC Work Session. Prepare correspondence and hunting program recommendations

13. Set time and place of next SRC meeting

14. Adjournment

Judith Gottlieb,
Acting Regional Director, Alaska Region.

[FR Doc. 05-17484 Filed 9-1-05; 8:45 am]

BILLING CODE 4312-HN-P